SMALL BUSINESS ADMINISTRATION

National Small Business Development Center Advisory Board; Public Meeting

The U.S. Small Business Administration National Small Business Development Center Advisory Board will hold a public meeting on Sunday, January 13, 2002, from 11 am to 5 pm CST, in the Executive Board Room at the Doubletree Hotel located in Little Rock, Arkansas. This meeting will be held to discuss such matters as may be presented by members, staff of the U.S. Small Business Administration or others present.

Anyone wishing to make an oral presentation to the Board must contact Ellen Thrasher, in writing by letter or fax no later than January 2, 2002 in order to be included on the agenda. For further information, please write or call Ellen Thrasher, Designated Federal Officer U.S. Small Business Administration, 409 Third Street, SW., Fourth Floor, Washington, DC 20416. Telephone number (202) 205-6817, FAX (202) 205-7727.

Steve Tupper,
Committee Management Officer.

[FR Doc. 01-31098 Filed 12-17-01; 8:45 am]

BILLING CODE 8025-01-U